DEPARTMENT OF AGRICULTURE

Rural Utilities Service

Rural Broadband Access Loans and Loan Guarantees Program

AGENCY: Rural Utilities Service, USDA.

ACTION: Notice of Solicitation of Applications (NOSA).

SUMMARY: This NOSA announces that the Rural Utilities Service (RUS) is accepting applications for fiscal year (FY) 2011 for the Rural Broadband Access Loan and Loan Guarantee program (the Broadband Program), subject to the availability of funding. This notice is being issued prior to passage of a final appropriations act to allow potential applicants time to submit proposals and give the Agency time to process applications within the current fiscal year. RUS will publish a subsequent notice identifying the amount received in the final appropriations act, if any. At this time, the agency estimates that approximately $700 million may be available for loans from prior appropriations; however, Congress is presently reviewing budget authority across the Federal government in an attempt to reduce government debt. As a result, expenses incurred in developing applications will be at the applicant's own risk.

In addition to announcing the application window, RUS announces the minimum and maximum amounts for broadband loans for the fiscal year. Moreover, the agency is concurrently publishing a interim rule that will revise the current Broadband Program regulations at 7 CFR part 1738, as necessitated by the Food, Conservation, and Energy Act of 2008 (the 2008 Farm Bill).

DATES: Applications under this NOSA will be accepted immediately, subject to the requirements of the interim regulation published concurrently with this NOSA.

FOR FURTHER INFORMATION CONTACT: For further information contact Kenneth Kuchno, Director, Broadband Division, Rural Development, STOP 1599, 1400 Independence Avenue, SW., Washington, DC 20250-1599, Telephone (202) 690-4673, Facsimile (202) 690-4389.

SUPPLEMENTARY INFORMATION:

Application Requirements and Addresses

All requirements and addresses for submission of an application under the Broadband Program will be set forth in the interim regulation published concurrently with this NOSA.

Application Materials

Applications for the Broadband Program will be available at http://www.rurdev.usda.gov/utp_farmbill.html.

General Information

The Rural Broadband Access Loan and Loan Guarantee Program is authorized by the Rural Electrification Act (7 U.S.C. 901 et seq.), as amended by the 2008 Farm Bill.

Applications must be submitted in accordance with the interim regulation published concurrently with this NOSA. This application guide to assist in the preparation of applications is available at: http://www.rurdev.usda.gov/utp_farmbill.html. Application guides may also be requested from RUS by contacting the agency contact.

Minimum and Maximum Loan Amounts

Loans under this authority will not be made for less than $100,000. The maximum loan amount that will be considered for FY 2011 is $100 million.

Required Definitions for Broadband Program Regulation

The interim regulation for the Broadband Program requires that certain definitions affecting eligibility be revised and published from time to time by the agency in the Federal Register. For the purposes of this interim regulation, the agency shall use the following definitions:

Broadband Service and Broadband Lending Speed. Until otherwise revised in the Federal Register, for applications in FY 2011, to qualify as broadband service, the minimum rate-of-data transmission shall be three megabits per second (download plus upload speeds) for both fixed and mobile broadband service and the broadband lending speed will be a minimum bandwidth of 5 megabits per second for both fixed and mobile service to the customer (download plus upload speeds).

Incumbent Service Provider. For a service provider to be considered an incumbent service provider they must demonstrate that five percent of the households in a proposed funded service area are buying broadband service from them.

Paperwork Reduction Act

In accordance with the Paperwork Reduction Act of 1995, the information collection requirements associated with Broadband loans, as covered in this NOSA, have been approved by the Office of Management and Budget (OMB) under OMB Control Number 0572-0130.

Dated: March 8, 2011.
Jessica Zufolo,
Acting Administrator, Rural Utilities Service.

[FR Doc. 2011-5611 Filed 3-11-11; 8:45 am]

BILLING CODE 3410-15-P